DEPARTMENT OF VETERANS AFFAIRS

[OMB Control No. 2900-0894]

Agency Information Collection Activity: Program of Comprehensive Assistance for Family Caregivers (PCAFC) Decision Appeal Forms

AGENCY: Veterans Health Administration, Department of Veterans Affairs.

ACTION: Notice.

SUMMARY: Veterans Health Administration (VHA), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Written comments and recommendations on the proposed collection of information should be received on or before May 2, 2022.

ADDRESSES: Submit written comments on the collection of information through Federal Docket Management System (FDMS) at www.Regulations.gov or to Janel Keyes, Office of Regulations, Appeals, and Policy (10BRAP), Department of Veterans Affairs, 810 Vermont Avenue NW, Washington, DC 20420 or email to Janel.Keyes@va.gov. Please refer to “OMB Control No. 2900-0894” in any correspondence. During the comment period, comments may be viewed online through FDMS.

FOR FURTHER INFORMATION CONTACT: Maribel Aponte, Office of Enterprise and Integration, Data Governance Analytics (008), 1717 H Street NW, Washington, DC 20006, (202) 266-4688 or email maribel.aponte@va.gov. Please refer to “OMB Control No. 2900-0894” in any correspondence.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Authority: Public Law 104-13; 44 U.S.C. 3501-3521.

Title: Program of Comprehensive Assistance for Family Caregivers (PCAFC) Decision Appeal Forms, VA Forms 10-306 and 10-307.

OMB Control Number: 2900-0894.

Type of Review: Extension of a currently approved collection.

Abstract: The Caregivers and Veterans Omnibus Health Services Act of 2010 (Pub. L. 111-163) established 38 U.S.C. 1720G, which directed the Department of Veterans Affairs (VA) to establish a Program of Comprehensive Assistance for Family Caregivers (PCAFC) and a Program of General Caregiver Support Services (PGCSS). Both programs are managed by VA's Caregiver Support Program (CSP) Office. On June 06, 2018, the President signed into law the John S. McCain III, Daniel K. Akaka, and Samuel R. Johnson VA Maintaining Internal Systems and Strengthening Integrated Outside Networks Act of 2018 or the VA MISSION Act 2018 (Pub. L. 115-182). The VA MISSION Act of 2018 fundamentally transformed elements of the Department of Veterans Affairs' (VA) healthcare system to include expanding the PCAFC to Family Caregivers of eligible Veterans of all eras in a phased approach, established new benefits for Primary Family Caregivers of eligible Veterans, and made other changes affecting program eligibility and VA's evaluation of PCAFC applications. The statutory authority for PCAFC and PGCSS is codified at 38 U.S.C. 1720G. VA's regulations implementing PCAFC and PGCSS are in 38 CFR part 71.

Since program inception, Veterans and caregivers who disagree with a PCAFC decision were afforded the right to appeal through the Veterans Health Administration (VHA) Clinical Appeals Process. A recent Court ruling has changed the appeal and review options now available to individuals who have received a PCAFC decision and disagree with that decision. On April 19, 2021, in the case of Jeremy Beaudette & Maya Beaudette v. Denis McDonough, Secretary of Veterans Affairs, the U.S. Court of Appeals for Veterans Claims ruled in favor of petitioners seeking review by the Board of Veterans' Appeals (BVA or Board) of decisions under the PCAFC. The Court also certified, as a class, claimants who received an adverse benefits decision under PCAFC, exhausted the administrative review process within VHA (the VHA Clinical Appeals Process), and have not been afforded the right to appeal to the Board. As a result of the Court's ruling, BVA review is now available to individuals who have received a decision under the PCAFC since the program began in May 2011. Consequently, VA has expanded options available to Veterans and caregivers who seek review of or to appeal a PCAFC decision.

The options now include a separate appeals process (legacy) that must be used to appeal to the Board regarding PCAFC decisions issued before February 19, 2019. This legacy process is implemented through use of VA Forms 10-306 and 10-307.

VA Form 10-306, Request for Information—Because individuals now have additional options for appealing and seeking review of previous PCAFC decisions, dating back to May 2011, this form allows Veterans and caregivers to request information about past PCAFC decisions to determine whether they wish to pursue an appeal to the Board or request review.

VA Form 10-307, Notice of Disagreement—This form was developed because VA Form 21-0958, which previously was used to initiate an appeal to the Board of benefits decisions dated before February 19, 2019, is no longer an approved information collection. VA Form 10-307, Notice of Disagreement, is now used for legacy appeals of PCAFC decisions and is specific to individuals who wish to appeal a PCAFC decision that was issued prior to February 19, 2019.

Affected Public: Individuals and households.

Estimated Annual Burden: 88,270 total hours.

a. 10-306—45,500 hours.

b. 10-307—42,770 hours.

Estimated Average Burden per Respondent: 45 total minutes.

a. 10-306—15 minutes.

b. 10-307—30 minutes.

Frequency of Response: Once annually.

Estimated Number of Respondents: 267,540 total.

a. 10-306—182,000.

b. 10-307—85,540.

By direction of the Secretary.
Maribel Aponte,
VA PRA Clearance Officer, Office of Enterprise and Integration/Data Governance Analytics, Department of Veterans Affairs.

[FR Doc. 2022-04510 Filed 3-2-22; 8:45 am]

BILLING CODE 8320-01-P